DEPARTMENT OF THE INTERIOR

Office of the Secretary

[XXXP511025 PPWOBSADF0 PFE00FESW.Z00000 PX.XBSAD0104.00.1]

Privacy Act of 1974, as Amended; Notice To Amend an Existing System of Records

AGENCY: Office of the Secretary, Interior.

ACTION: Notice of amendment to an existing system of records.

SUMMARY: Pursuant to the provisions of the Privacy Act of 1974, as amended, the Department of the Interior is issuing a public notice of its intent to amend the Department-wide Privacy Act system of records titled, “The `America the Beautiful—The National Parks and Federal Recreational Lands Pass' System,” DOI-06. This system allows the Department of the Interior to manage the Pass program and information about organizations and individuals who participate in Pass program activities and initiatives. The system notice is being amended to reflect new Pass initiatives and updates to the system location, categories of individuals covered by the system, categories of records in the system, authority for maintenance of the system, storage, safeguards, retention and disposal, system manager and address, notification procedures, records access and contesting procedures, records source categories, and to update the routine uses to include activities related to the issuance and management of park passes and programs that support these activities.

DATES: Comments must be received by November 18, 2015. The amendments to the system will be effective November 18, 2015.

ADDRESSES: Any person interested in commenting on this new system of records may do so by submitting written comments to Teri Barnett, Departmental Privacy Officer, U.S. Department of the Interior, 1849 C Street NW., Mail Stop 5547 MIB, Washington, DC 20240; hand-delivering comments to Teri Barnett, Departmental Privacy Officer, U.S. Department of the Interior, 1849 C Street NW., Mail Stop 5547 MIB, Washington, DC 20240; or emailing comments to Privacy@ios.doi.gov.

FOR FURTHER INFORMATION CONTACT: America the Beautiful—The National Parks and Federal Recreational Lands Pass Program Manager, National Park Service, Org. Code 2608, 1201 Eye St. NW., Washington, DC 20005, or by phone: 202-513-7139.

SUPPLEMENTARY INFORMATION:

I. Background

The Department of the Interior (DOI) manages the “America the Beautiful—The National Parks and Federal Recreational Lands Pass” (hereinafter “`Pass” or “Pass System”). The purpose of the Pass System is to manage Pass program activities and information about organizations and individuals who purchase or participate in Pass initiatives, receive the “America the Beautiful—The National Parks and Federal Recreational Lands Pass”, or register to receive information about the Pass program and stewardship opportunities. Passes may be purchased online, or via mail or telephone. The information collected is required to establish eligibility; process financial transactions to complete Pass purchase requests; fulfill Passes to individuals (“fulfill” and “fulfillment” refer to shipping and handling of Passes), Federal recreation sites, and third parties; and provide associated customer services such as sending renewal notices and providing information about the Pass program and Federal lands. Any entity authorized to sell and fulfill Passes on behalf of the government will be barred from selling, renting, licensing, sharing, or disclosing to third parties any personal information collected. Any such entity will also be barred from using any personal information collected for purposes other than to sell and fulfill Passes. Informational or promotional messages will be sent to individuals and organizations only if they have affirmatively requested such messages through an “opt-in” mechanism.

The Every Kid in a Park (EKiP) initiative is an interagency effort between the National Park Service, Bureau of Land Management, Fish and Wildlife Service, Bureau of Reclamation, Forest Service, Department of Education, Army Corps of Engineers, the National Oceanic and Atmospheric Administration, and the General Services Administration to provide free entrance and standard amenity fees to U.S. students. The EKiP program promotes education about America's wildlife, resources, and history, and encourages fourth grade students and their families to visit federal public lands and waters by issuing fee-free annual passes to recreation sites managed by DOI and its Federal partners. These EKiP program activities are managed by DOI with participating bureaus, offices, and partners under the authority of the Federal Lands Recreation Enhancement Act of 2004 (REA), 16 U.S.C. 6804.

DOI is proposing to amend the system notice to provide updates to the Pass System and include information on the EKiP initiative. Amendments to the system include updates to the system location, categories of individuals covered by the system, categories of records in the system, authority for maintenance of the system, storage, safeguards, retention and disposal, system managers and addresses, notification procedures, records access and contesting procedures, records source categories, and updating the routine uses to include activities related to the issuance of Passes and management of the Pass and EKiP programs. This system notice was last published in the Federal Register on June 4, 2007, 72 FR 30816.

The amendments to the system will be effective as proposed at the end of the comment period (the comment period will end 30 days after the publication of this notice in the Federal Register), unless comments are received that would require a contrary determination. DOI will publish a revised notice if changes are made based upon a review of the comments received.

II. Privacy Act

The Privacy Act of 1974, as amended, embodies fair information practice principles in a statutory framework governing the means by which Federal Agencies collect, maintain, use, and disseminate individuals' personal information. The Privacy Act applies to records about individuals that are maintained in a “system of records.” A “system of records” is a group of any records under the control of an agency for which information about an individual is retrieved by the name or by some identifying number, symbol, or other identifying particular assigned to the individual. The Privacy Act defines an individual as a United States citizen or lawful permanent resident. As a matter of policy, DOI extends administrative Privacy Act protections to all individuals. Individuals may request access to their own records that are maintained in a system of records in the possession or under the control of DOI by complying with DOI Privacy Act regulations located at 43 CFR part 2, subpart K.

The Privacy Act requires each agency to publish in the Federal Register a description denoting the type and character of each system of records that the agency maintains and the routine uses of the information in each system in order to make agency record keeping practices transparent, notify individuals regarding the uses of their records, and assist individuals to more easily find such records within the agency. Below is the description of the amended “The `America the Beautiful—The National Parks and Federal Recreational Lands Pass' System,” DOI-06, system of records.

In accordance with 5 U.S.C. 552a(r), DOI has provided a report concerning this system of records to the Office of Management and Budget and to Congress.

III. Public Disclosure

Before including your address, phone number, email address, or other personal identifying information in your comment, you should be aware that your entire comment, including your personal identifying information, may be made publicly available at any time. While you can ask us in your comment to withhold your personal identifying information from public review, we cannot guarantee that we will be able to do so.

Dated: October 13, 2015.
Teri Barnett,
Departmental Privacy Officer.

SYSTEM NAME

America the Beautiful—The National Parks and Federal Recreational Lands Pass System, DOI-06.

SECURITY CLASSIFICATION:

Unclassified.

SYSTEM LOCATION:

Records pertaining to Pass System sales and fulfillment are maintained at the U.S. Geological Survey: U.S. Geological Survey Geospatial Information Office, Science Information & Education Branch, MS-306/Accounting Team, Box 25286, Denver Federal Center, Denver, CO 80225. Records are also located in DOI bureaus and offices that manage Pass program sales, initiatives, and outreach activities; and in facilities of DOI contractors who manage or process Pass sales on behalf of the Department of the Interior. Records pertaining to the Every Kid in a Park program are located in the office of the Every Kid in a Park Program Manager, Department of the Interior, 1849 C St. NW., Washington, DC 20240, and at the General Services Administration and contractor facilities who provide EKiP program support services.

CATEGORIES OF INDIVIDUALS COVERED BY THE SYSTEM:

(1) Members of the public who:

(a) Purchase the “America the Beautiful—The National Parks and Federal Recreational Lands Pass” (hereinafter, “Pass”) via the Internet, mail, or a telephone call-center,

(b) Register online to receive information about the Pass program and stewardship opportunities,

(c) Are awarded a Pass as a result of reaching the necessary threshold of hours volunteered at Federal recreation lands, or

(d) Participate in the EKiP program or are awarded a Pass as a result of participation in Pass program promotions, educational programs, or initiatives to encourage individuals to visit Federal parks, lands, and waters, including volunteers, educators, students, and special groups;

(2) Representatives and employees of businesses and organizations who are third party vendors of the Pass; and

(3) Employees of DOI, Department of Agriculture, Forest Service, and Department of Defense, Army Corps of Engineers, or other Federal agency partners who serve as ordering contacts for the Pass for sale or distribution.

CATEGORIES OF RECORDS IN THE SYSTEM:

(1) Name of individual or organization and contact information, including home address, telephone number, and email address.

(2) Category of Pass(es) being purchased or awarded such as Annual Pass, Access Pass, Senior Pass, and Volunteer Pass.

(3) Information required for proof of identity and eligibility for a Pass or to meet a requirement for Pass program initiatives, such as age, date of birth, disability status, citizenship, photo identification, passport, driver license or state issued identification, and other criteria such as employment or membership status.

(4) Information about special groups participating in Pass program activities or initiatives (such as schools, educators, or organizations) who provide information necessary to request or receive Passes. Information may include name of individual, name of organization, email address, address, other contact information, zip code, or specific Federal park or lands, and may be used to establish eligibility, and develop metrics to analyze success of promotional outreach activities and increase program participation.

(5) Financial information necessary to process Pass purchases, including credit card number, account holder, type of credit card (e.g., Visa or Mastercard), expiration date, and credit card security code.

(6) Date that Pass(es) were purchased or awarded.

(7) Other information necessary to manage the Pass and EKiP programs, such as name, address, contact method, other preferences, and information contained in correspondence or requests to receive further information.

AUTHORITY FOR MAINTENANCE OF THE SYSTEM:

The Federal Lands Recreation Enhancement Act of 2004 (REA), 16 U.S.C. 6804 et seq.

ROUTINE USES OF RECORDS MAINTAINED IN THE SYSTEM, INCLUDING CATEGORIES OF USERS AND THE PURPOSES OF SUCH USES:

The primary purposes of this system are: (1) To process financial transactions to complete sales of Passes; (2) to fulfill Passes to individuals, Federal recreation sites, and third party vendors of the Pass; (3) for those who “opt-in” or register, to send updates, reminders (including remarketing the Pass when an individual's Pass is about to expire), and additional information on the Pass program and stewardship opportunities from the REA participating agencies and Congressionally Authorized Foundations (the National Fish and Wildlife Foundation, the National Forest Foundation, the Corps Foundation, and the National Park Foundation); and (4) for other necessary actions to manage the Pass and EKiP programs within the intent of the authorizing legislation.

In addition to those disclosures generally permitted under 5 U.S.C. 552a(b) of the Privacy Act, disclosures outside DOI may be made as a routine use pursuant to 5 U.S.C. 552a(b)(3) as follows:

(1)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To the Executive Office of the President in response to an inquiry from that office made at the request of the subject of a record or a third party on that person's behalf, or for a purpose compatible for which the records are collected or maintained.

(4) To any criminal, civil, or regulatory law enforcement authority (whether Federal, state, territorial, local, tribal or foreign) when a record, either alone or in conjunction with other information, indicates a violation or potential violation of law—criminal, civil, or regulatory in nature, and the disclosure is compatible with the purpose for which the records were compiled.

(5) To an official of another Federal agency to provide information needed in the performance of official duties related to reconciling or reconstructing data files or to enable that agency to respond to an inquiry by the individual to whom the record pertains.

(6) To Federal, state, territorial, local, tribal, or foreign agencies that have requested information relevant or necessary to the hiring, firing or retention of an employee or contractor, or the issuance of a security clearance, license, contract, grant, or other benefit, when the disclosure is compatible with the purpose for which the records were compiled.

(7) To representatives of the National Archives and Records Administration to conduct records management inspections under the authority of 44 U.S.C. 2904 and 2906.

(8) To state, territorial, and local governments and tribal organizations to provide information needed in response to court order and/or discovery purposes related to litigation, when the disclosure is compatible with the purpose for which the records were compiled.

(9) To an expert, consultant, or contractor (including employees of the contractor) of DOI that performs services requiring access to these records on DOI's behalf to carry out the purposes of the system.

(10) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(11) To the Office of Management and Budget during the coordination and clearance process in connection with legislative affairs as mandated by OMB Circular A-19.

(12) To the Department of the Treasury to recover debts owed to the United States.

(13) To the news media and the public, with the approval of the Public Affairs Officer in consultation with Counsel and the Senior Agency Official for Privacy, where there exists a legitimate public interest in the disclosure of the information, except to the extent it is determined that release of the specific information in the context of a particular case would constitute an unwarranted invasion of personal privacy.

(14) To an expert, consultant, contractor (including employees of the contractor) of DOI that performs, on DOI's behalf, services requiring access to these records.

(15) To the Department of Agriculture's Forest Service and the Department of Defense's Army Corps of Engineers as necessary to implement the Pass program.

(16) To the Congressionally Authorized Foundations (the National Fish and Wildlife Foundation, the National Forest Foundation, the Corps Foundation, and the National Park Foundation) about those individuals or entities who “opt-in” or register to receive communications.

(17) To a debt collection agency for the purpose of collecting outstanding debts owed to the Department for fees associated with processing FOIA/PA requests.

(18) To disclose debtor information to the Internal Revenue Service, or to another Federal agency or its contractor solely to aggregate information for the Internal Revenue Service to collect debts owed to the Federal government through the offset of tax refunds.

(19) To other Federal agencies for the purpose of collecting debts owed to the Federal government by administrative or salary offset.

(20) To Federal, state, tribal, territorial or local government, educational, and other organizations, entities or individuals for the purpose of verifying eligibility to receive a Pass, prevent duplication, fraud and abuse, or as otherwise required by law.

(21) To the General Services Administration, U.S. Department of Education, U.S. Army Corps of Engineers, U.S. Forest Service, National Oceanic and Atmospheric Administration, and other Federal agencies in partnership with DOI to promote educational or outreach activities to encourage individuals to visit Federal parks, lands, and waters, for the purpose of developing metrics to analyze success of promotional outreach activities and identify challenges for special groups and localities, and to prevent fraud and abuse.

DISCLOSURE TO CONSUMER REPORTING AGENCIES:

Pursuant to 5 U.S.C. 552a(b)(12), disclosures may be made to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING AND DISPOSING OF RECORDS IN THE SYSTEM:

STORAGE:

Records maintained in paper form are stored in file folders in file cabinets. Electronic records are maintained in computer servers, computer hard drives, electronic databases, email, and electronic media such as removable drives, compact disc, magnetic disk, diskette, and computer tapes.

RETRIEVABILITY:

Information from the Pass System will be retrievable by (1) name of individual or organization, (2) address, (3) credit card information (for Pass purchasers only), and (4) other unique identifiers such as an email address or a phone number.

SAFEGUARDS:

The records contained in this system are safeguarded in accordance with 43 CFR 2.226 and other applicable security rules and policies. During normal hours of operation, paper records are maintained in locked filed cabinets in secured rooms under the control of authorized personnel that are locked during non-business hours. Computers and storage media are encrypted in accordance with DOI security policy. Electronic records are stored in servers located in secured Federal agency and contractor facilities with physical, technical and administrative levels of security to prevent unauthorized access to information. Security controls include encryption, firewalls, two-factor authentication, audit logs, intrusion detection systems, and network system security monitoring. Access to records in this system is limited to DOI personnel and other authorized parties who have a need to know the information for the performance of their official duties, and is based on least privileges or access level needed to perform job duties. Electronic records are safeguarded by permissions set to “Authenticated Users” which require valid username and password, and user access is monitored to protect against unauthorized access or use. Database tables are kept on separate file servers away from general file storage and other local area network usage, and the database itself will be stored in a password-protected, client-server database. Electronic transmissions of records containing sensitive data will be encrypted and password-protected. Personnel authorized to access the system must complete security, privacy, and records management training and sign the DOI Rules of Behavior. A Privacy Impact Assessment was conducted to ensure that adequate controls are implemented to protect data as required by the Privacy Act, E-Government Act of 2002, the Federal Information Security Modernization Act of 2014, Office of Management and Budget policy, National Institute of Standards and Technology guidelines and standards, and DOI privacy and security policies.

RETENTION AND DISPOSAL:

Records in this system are maintained in accordance with the National Park Service (NPS) Records Schedules and Departmental Records Schedules that have been approved by the National Archives and Records Administration (NARA). Commercial Visitor Services (Item 5) C. Routine Financial and Contract/Lease Records ((N1-79-08-4)) have a temporary disposition and are destroyed seven years after closure. Interpretation and Education (Item 6), Retention plan C, Routine and Supporting Documentation have a temporary disposition and are destroyed three years after closure (N1-79-08-5). General administrative records, including routine correspondence, administrative copy files, budget files, and duplicate copies, are maintained under Departmental Records Schedule 1—Administrative Records (DAA-0048-2013-0001). The disposition of these records may vary based on the subject matter, function, and the needs of the agency. Temporary records are cut off when superseded or obsolete, and destroyed after the required retention period for the specific record type. In some cases, records may be maintained under DOI bureau and office records retention schedules and disposed of in accordance with the applicable retention schedules. Approved disposition methods for temporary records include shredding or pulping paper records, and erasing or degaussing electronic records in accordance with 384 Departmental Manual 1 and NARA guidelines.

SYSTEM MANAGER AND ADDRESS:

1. America the Beautiful—The National Parks and Federal Recreational Lands Pass Program Manager, National Park Service, Org. Code 2608, 1201 Eye St. NW., Washington, DC 20005.

2. Every Kid in a Park Program Manager, Office of the Secretary, Department of the Interior, 1849 C St. NW., Mail Stop 7254 MIB, Washington, DC 20240.

NOTIFICATION PROCEDURES:

An individual requesting notification of the existence of records on himself or herself in the Pass System should send a signed, written inquiry to the appropriate System Manager identified above. The request envelope and letter should both be clearly marked “PRIVACY ACT INQUIRY” and the request must include the individual's full name and address. A request for notification must meet the requirements of 43 CFR 2.235.

RECORD ACCESS PROCEDURES:

An individual requesting records on himself or herself in the Pass System should send a signed, written inquiry to the appropriate System Manager identified above. The request must include the individual's full name and address and should describe the records sought as specifically as possible. The request envelope and letter should both be clearly marked “PRIVACY ACT REQUEST FOR ACCESS.” A request for access must meet the requirements of 43 CFR 2.238.

CONTESTING RECORD PROCEDURES:

An individual requesting corrections or the removal of material from his or her records should send a signed, written request to the appropriate System Manager identified above. The request must include the individual's full name and address, as well as an explanation of what information they believe should be changed, and why. A request for corrections or removal must meet the requirements of 43 CFR 2.246.

RECORD SOURCE CATEGORIES:

Information in the Pass System comes primarily from individual members of the public, persons, parties, or organizations purchasing or receiving Passes or registering to receive additional information from DOI about the Pass or EKiP programs, and related activities. Individuals may provide information using online or electronic forms, through mail, or over the telephone if using a telephone call-in center. Information may also be obtained from correspondence with individuals interested in programs related to Pass and EKiP program activities, and from DOI bureau and office program records related to these program activities. Information may also be obtained from DOI partner agencies, and other Federal, state, local or tribal entities; DOI employees, contractors, and volunteers; and any persons who correspond or communicate with DOI during the course of program management activities for “The `America the Beautiful—The National Parks and Federal Recreational Lands Pass' System”.

EXEMPTIONS CLAIMED FOR THE SYSTEM:

None.

[FR Doc. 2015-26446 Filed 10-16-15; 8:45 am]

BILLING CODE 4334-63-P